OFFICE OF PERSONNEL MANAGEMENT

Submission for Review: Application for Refund of Retirement Deductions/FERS (SF 3106) and Current/Former Spouse(s) Notification of Application for Refund of Retirement Deductions Under FERS (SF 3106A)

AGENCY: U.S. Office of Personnel Management.

ACTION: 60-Day Notice and request for comments.

SUMMARY: The Retirement Services, Office of Personnel Management (OPM), is offering the general public and other Federal agencies the opportunity to comment on an extension, without change, of a currently approved information collection request (ICR 3206-0170) regarding these related forms: Application For Refund of Retirement Deductions/FERS (SF 3106) and Current/Former Spouse(s) Notification of Application for Refund of Retirement Deductions Under FERS (SF 3106A). As required by the Paperwork Reduction Act of 1995 (Pub. L. 104-13, 44 U.S.C. chapter 35), and as amended by the Clinger-Cohen Act (Pub. L. 104-106), OPM is soliciting comments for this collection. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until April 30, 2013. This process is conducted in accordance with 5 CFR 1320.1.

ADDRESSES: Interested persons are invited to submit written comments on the proposed information collection to U.S. Office of Personnel Management, Retirement Services, Union Square 370, 1900 E Street NW., Washington, DC 20415-3500, Attention: Alberta Butler or sent via email to Alberta.Butler@opm.gov.

FOR FURTHER INFORMATION CONTACT: A copy of this ICR, with applicable supporting documentation, may be obtained by contacting the Retirement Services Publications Team, Office of Personnel Management, 1900 E Street NW., Room 3H30, Washington, DC 20415, Attention: Cyrus S. Benson, or sent via email to Cyrus.Benson@opm.gov or faxed to (202) 606-0910.

SUPPLEMENTARY INFORMATION: SF 3106, Application for Refund of Retirement Deductions/Federal Employees Retirement System (FERS), is used by former Federal employees under FERS, to apply for a refund of retirement deductions withheld during Federal employment, plus any interest provided by law. SF 3106A, Current/Former Spouse(s) Notification of Application for Refund of Retirement Deductions Under FERS, is used by refund applicants to notify their current/former spouse(s) that they are applying for a refund of retirement deductions, which is required by law.

Analysis:

Agency: Retirement Operations, Retirement Services, Office of Personnel Management.

Title: Application For Refund of Retirement Deductions/Federal Employees Retirement System; Current/Former Spouse(s) Notification of Application for Refund of Retirement Deductions Under FERS.

OMB Number: 3206-0170.

Frequency: On occasion.

Affected Public: Individuals or Households.

Number of Respondents: SF 3106 = 8,000; SF 3106A = 6,400.

Estimated Time per Respondent: SF 3106 = 30 minutes; SF 3106A = 5 minutes.

Total Burden Hours: 4533.

U.S. Office of Personnel Management.
John Berry,
Director.

[FR Doc. 2013-04725 Filed 2-28-13; 8:45 am]

BILLING CODE 6325-38-P